DEPARTMENT OF ENERGY

Federal Energy Regulatory Commission

Notice of Effectiveness of Exempt Wholesale Generator Status

June 23, 2021.

Tumbleweed Solar LLC | [EG21-99-000
PGR 2020 Lessee 8, LLC | EG21-100-000
Sugar Solar, LLC | EG21-101-000
BigBeau Solar, LLC | EG21-102-000
Valley Center ESS, LLC | EG21-103-000
Crystal Lake Wind Energy III, LLC | EG21-104-000
Elara Energy Project, LLC | EG21-105-000
Taygete Energy Project II, LLC | EG21-106-000
Citadel Solar, LLC | EG21-107-000
Assembly Solar II, LLC | EG21-108-000
Shaw Creek Solar, LLC | EG21-109-000
Swoose LLC | EG21-110-000
Flower Valley LLC | EG21-111-000
Maverick Solar 6, LLC | EG21-112-000
Samson Solar Energy LLC | EG21-113-000
Hawtree Creek Farm Solar, LLC | EG21-114-000
Maverick Solar 7, LLC | EG21-115-000
Diablo Energy Storage, LLC | EG21-116-000
Azure Sky Solar Project, LLC | EG21-117-000
Sky River Wind, LLC | EG21-118-000]

Take notice that during the month of May 2021, the status of the above-captioned entities as Exempt Wholesale Generators became effective by operation of the Commission's regulations. 18 CFR 366.7(a) (2020).

Dated: June 23, 2021.
Debbie-Anne A. Reese,
Deputy Secretary.

[FR Doc. 2021-13935 Filed 6-29-21; 8:45 am]

BILLING CODE 6717-01-P